DEPARTMENT OF TRANSPORTATION

Federal Aviation Administration

Notice of Intent To Rule on a Land Release Request for Change in Use From Aeronautical to Non-Aeronautical at Bay Bridge Airport, Stevensville, MD

AGENCY: Federal Aviation Administration (FAA), DOT.

ACTION: Notice of request for a change in use of on-airport property.

SUMMARY: The FAA proposes to rule and invites public comment on Queen Anne's County's request to change 7.663 acres of federally obligated airport property at Bay Bridge Airport, Stevensville, MD from aeronautical to non-aeronautical use. This acreage was originally purchased with federal financial assistance through the Airport Improvement Program. The proposed use of land after the sale will be compatible with the airport and will not interfere with the airport or its operation.

DATES: Comments must be received on or before April 3, 2020.

FOR FURTHER INFORMATION CONTACT: Comments on this application may be mailed or delivered to the following address:

Linda Steiner, Airport Manager, Bay Bridge Airport, 202 Airport Road, Stevensville, MD 21666, (410) 643-4364

and at the FAA Washington Airports District Office:

Matthew Thys, Manager, Washington Airports District Office, 13873 Park Center Road, Suite 490S, Herndon, VA 20171, (703) 487-3980

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by grant agreements. The following is a brief overview of the request.

Queen Anne's County has submitted a land release request seeking FAA approval for the change in use of approximately 7.663 acres of federally obligated airport property from aeronautical to non-aeronautical use. The property is situated on the north side of Pier One Road. Due to this location, the subject area is unable to be utilized for aviation purposes because the airport operations area is located to the south of Pier One Road. Thus, the subject area is inaccessible to aircraft.

The 7.663 acres of land to be released was originally purchased as part of a 24.835-acre parcel with federal financial assistance through the AIP program under Grant Agreement 3-24-0036-17-2005. As foreseen at the time of the execution of this Grant Agreement, the only portion of the 24.835-acre parcel that was required for aeronautical use is the portion of the parcel to the south of Pier One Road. Subsequent to the implementation of the proposed change in use, rents received by the airport from this property is considered airport revenue, and will be used in accordance with 49 U.S.C. 47107(b) and the FAA's Policy and Procedures Concerning the Use of Airport Revenue published in the Federal Register on February 16, 1999. The proposed use of the property will not interfere with the airport or its operation.

Issued in Herndon, Virginia.
Matthew Thys,
Manager, Washington Airports District Office.

[FR Doc. 2020-04413 Filed 3-3-20; 8:45 am]

BILLING CODE 4910-13-P